NUCLEAR REGULATORY COMMISSION

[NRC-2008-0252; Docket No. 052-00011]

Notice of Issuance of Early Site Permit and Limited Work Authorization for the Vogtle Electric Generating Plant ESP Site

AGENCY: Nuclear Regulatory Commission.

ACTION: Notice of Issuance of Early Site Permit and Limited Work Authorization.

FOR FURTHER INFORMATION CONTACT: Christian Araguas, Project Manager, AP1000 Projects Branch, Division of New Reactor Licensing, Office of New Reactors, U.S. Nuclear Regulatory Commission, Washington, DC 20555-0001. Telephone: (301) 415-3637; e-mail: christian.araguas@nrc.gov.

SUPPLEMENTARY INFORMATION:

I. Introduction

Pursuant to 10 CFR 2.106, the Nuclear Regulatory Commission (NRC) is providing notice of the issuance of Early Site Permit (ESP) ESP-004 to Southern Nuclear Operating Company (SNC), Georgia Power Company, Oglethorpe Power Corporation, Municipal Electric Authority of Georgia, and the City of Dalton, Georgia, an incorporated municipality in the State of Georgia acting by and through its Board of Water, Light and Sinking Fund Commissioners, for approval of a site located in Burke County, Georgia, 26 miles southeast of Augusta, Georgia for two nuclear power reactors; this action is separate from the filing of an application for a construction permit or combined license for such a facility. The NRC has found that the application for an early site permit (ESP), and accompanying limited work authorization (LWA), filed by Southern Nuclear Operating Company (SNC), on behalf of itself and the other four entities named above, complies with the applicable requirements of the Atomic Energy Act of 1954, as amended, and the applicable rules and regulations of the Commission. All required notifications to other agencies or bodies have been duly made. There is reasonable assurance that the permit holders will comply with the regulations in 10 CFR Chapter I and the health and safety of the public will not be endangered. There is reasonable assurance that the site is in conformity with the provisions of the Act and the Commission's regulations. SNC is technically qualified to engage in the activities authorized. Issuance of the ESP will not be inimical to the common defense and security or to the health and safety of the public. Issuance of the LWA will provide reasonable assurance of adequate protection to public health and safety and will not be inimical to the common defense and security. The proposed complete and integrated emergency plans are in accordance with the applicable standards of 10 CFR 50.47, and the requirements of Appendix E to 10 CFR Part 50, and provide reasonable assurance that adequate protective measures can and will be taken in the event of a radiological emergency. The proposed inspections, tests, analyses and acceptance criteria, including those on emergency planning, are necessary and sufficient, within the scope of the ESP and LWA, to provide reasonable assurance that the facility has been constructed and will be operated in conformity with the license, the provisions of the Act, and the Commission's regulations. The issuance of this ESP, subject to the Environmental Protection Plan (EPP) and the conditions for the protection of the environment set forth in the permit, is in accordance with the National Environmental Policy Act of 1969, as amended, and with the applicable sections of 10 CFR Part 51, “Environmental Protection Regulations for Domestic Licensing and Related Regulatory Functions,” as referenced by Subpart A, “Early Site Permits,” of 10 CFR Part 52, “Licenses, Certifications, and Approvals for Nuclear Power Plants,” and all applicable requirements therein have been satisfied.

Accordingly, this early site permit was issued on August 26, 2009, and is effective immediately.

II. Further Information

The NRC has prepared a Safety Evaluation Report (SER) and Final Environmental Impact Statement (FEIS) that document the information that was reviewed and NRC's conclusion. In accordance with 10 CFR 2.390 of the NRC's “Rules of Practice,” details with respect to this action, including the SER and accompanying documentation included in the early site permit package, are available electronically at the NRC's Electronic Reading Room at http://www.nrc.gov/reading-rm/adams.html. From this site, persons can access the NRC's Agencywide Document Access and Management System (ADAMS), which provides text and image files of NRC's public documents. The ADAMS accession numbers for the documents related to this notice are:

ML092260348 NUREG-1923, “Safety Evaluation Report for an Early Site Permit (ESP) at the Vogtle Electric Generating Plant (VEGP) ESP Site”

ML082260190 NUREG-1872, “Final Environmental Impact Statement for an Early Site Permit (ESP) at the Vogtle Electric Generating Plant Site.”

ML082550040 Errata to NUREG-1872, “Final Environmental Impact Statement for an Early Site Permit (ESP) at the Vogtle Electric Generating Plant Site.” (Errata)

ML091550858 VEGP Early Site Permit Application—Revision 5

Persons who do not have access to ADAMS or who encounter problems in accessing the documents located in ADAMS should contact the NRC Public Document Room (PDR) Reference staff by telephone at 1-800-397-4209, 301-415-4737, or by e-mail to pdr.resource@nrc.gov.

These documents may also be viewed electronically on the public computers located at the NRC's Public Document Room (PDR), O 1 F21, One White Flint North, 11555 Rockville Pike, Rockville, MD 20852. The PDR reproduction contractor will copy documents for a fee.

Dated at Rockville, Maryland, this 26th day of August, 2009.
For the Nuclear Regulatory Commission.
Eileen M. McKenna,
Acting Chief, AP1000 Projects Branch, Division of New Reactor Licensing, Office of New Reactors.

[FR Doc. E9-20915 Filed 8-28-09; 8:45 am]

BILLING CODE 7590-01-P